DEPARTMENT OF LABOR

Occupational Safety and Health Administration

29 CFR Parts 1910 and 1926

[Docket No. OSH-2013-0005]

RIN No. 1218-AC77

Updating OSHA Standards Based on National Consensus Standards; Signage

AGENCY: Occupational Safety and Health Administration (OSHA), Department of Labor.

ACTION: Proposed rule; withdrawal.

SUMMARY: With this notice, OSHA is withdrawing the proposed rule that accompanied its direct final rule revising its signage standards for general industry and construction.

DATES: Effective November 4, 2013, OSHA is withdrawing the proposed rule published June 13, 2013 (78 FR 35585).

FOR FURTHER INFORMATION CONTACT: General information and press inquiries: Contact Frank Meilinger, Director, OSHA Office of Communications, Room N-3647, U.S. Department of Labor, 200 Constitution Avenue NW., Washington, DC 20210; telephone: (202) 693-1999; email: meilinger.francis2@dol.gov.

Technical information: Contact Ken Stevanus, Directorate of Standards and Guidance, Room N-3609, OSHA, U.S. Department of Labor, 200 Constitution Avenue NW., Washington, DC 20210; telephone: (202) 693-2260; fax: (202) 693-1663; email: stevanus.ken@dol.gov.

SUPPLEMENTARY INFORMATION: Copies of this Federal Register notice: Electronic copies of this Federal Register notice are available at http://www.regulations.gov. This Federal Register notice, as well as news releases and other relevant information, also is available at OSHA's Web page at http://www.osha.gov.

Withdrawal of the proposal: On June 13, 2013, OSHA published a companion proposed rule (NPRM) along with the direct final rule (DFR) (see 78 FR 35585) updating its signage standards for general industry and construction. In the DFR, OSHA stated that it would withdraw the companion NPRM and confirm the effective date of the DFR if it received no significant adverse comments to the DFR by the close of the comment period, July 15, 2013. OSHA received eight favorable and no adverse comments on the DFR by that date (see ID: OSHA-2013-0005-0008 thru -0015 in the docket for this rulemaking). Accordingly, OSHA is withdrawing the proposed rule. In addition, OSHA is publishing two separate Federal Register notices, one confirming the effective date of the DFR, and the other making minor, nonsubstantive additions and corrections to 29 CFR 1910.6, 1926.6, and 1926.200(b) and (c).

List of Subjects in 29 CFR Parts 1910 and 1926

Signage, Occupational safety and health, Safety.

Authority and Signature

David Michaels, Ph.D., MPH, Assistant Secretary of Labor for Occupational Safety and Health, U.S. Department of Labor, 200 Constitution Avenue NW., Washington, DC 20210, authorized the preparation of this document. OSHA is issuing this document pursuant to 29 U.S.C. 653, 655, and 657, 5 U.S.C. 553, Secretary of Labor's Order 1-2012 (77 FR 3912), and 29 CFR part 1911.

Signed at Washington, DC, on October 30, 2013.
David Michaels,
Assistant Secretary of Labor for Occupational Safety and Health.

[FR Doc. 2013-26337 Filed 11-1-13; 8:45 am]

BILLING CODE 4510-26-P